DEPARTMENT OF ENERGY

Federal Energy Regulatory Commission

18 CFR Part 284

[Docket No. PL02-6-000]

Notice of Inquiry Concerning Natural Gas Pipeline Negotiated Rate Policies and Practices; Extension of Comment Period

August 8, 2002.

AGENCY: Federal Energy Regulatory Commission, DOE.

ACTION: Notice of inquiry; extension of time.

SUMMARY: On July 17, 2002, the Commission issued a Notice of Inquiry Concerning Natural Gas Pipeline Negotiated Rate Policies and Practices (67 FR 48952, July 25, 2002). The dates for filing initial and reply comments are being extended at the request of the National Association of State Utility Consumer Advocates.

DATES: Initial comments should be filed on or before September 25, 2002. Reply comments should be filed on or before October 25, 2002.

ADDRESSES: Office of the Secretary, Federal Energy Regulatory Commission, 888 First Street, NE., Washington, DC 20426.

FOR FURTHER INFORMATION CONTACT: Michael G. Henry, Office of the General Counsel, Federal Energy Regulatory Commission, 888 First Street, NE., Washington, DC 20426; (202) 208-0532.

SUPPLEMENTARY INFORMATION: On July 26, 2002, the National Association of State Utility Consumer Advocates (NASUCA) filed a motion for an extension of time to file comments in response to the Commission's Notice of Inquiry (NOI) issued July 17, 2002, in the above-docketed proceeding. In its motion, the NASUCA states that because the issues presented in the NOI are of such significant importance to the natural gas industry and because of the press of other business, additional time is needed for the preparation of responsive comments. The motion further states that the Process Gas Consumers Group, the Interstate Natural Gas Association of America, the Natural Gas Supply Association and the American Gas Industry support the motion for additional time.

Upon consideration, notice is hereby given that an extension of time for filing comments on the NOI is granted to and including September 25, 2002. Reply comments shall be filed on or before October 25, 2002.

Linwood A. Watson, Jr.,
Deputy Secretary.

[FR Doc. 02-21272 Filed 8-21-02; 8:45 am]

BILLING CODE 6717-01-P